DEPARTMENT OF ENERGY

Federal Energy Regulatory Commission

[Project Number 11858-002]

Nevada Hydro Company, Inc. and Elsinore Valley Municipal Water District; Notice of Modified Transmission Alignment Proposal and Staff NEPA Alternatives for the Lake Elsinore Advanced Pumped Storage Project

October 3, 2006.

On February 2, 2004, the Elsinore Valley Municipal Water District and Nevada Hydro Company, Inc. (co-applicants) filed an application for the Lake Elsinore Advanced Pumped Storage Project (LEAPS Project).

The proposed LEAPS project would consist of: (1) A new upper reservoir (Morrell Canyon) having a 180-foot-high main dam and a gross storage volume of 5,750 feet, at a normal reservoir surface elevation of 2,880 feet above mean sea level; (2) a powerhouse with two reversible pump-turbine units with a total installed capacity of 500 megawatts; (3) the existing Lake Elsinore as a lower reservoir; (4) about 30 miles of 500-kV transmission line connecting the project to an existing transmission line owned by Southern California Edison, located north of the proposed project, and to an existing San Diego Gas & Electric Company transmission line located to the south.

This notice is being sent to landowners of property crossed by or near either the proposed or alternative routes for the transmission line and other interested parties to the proceeding. The maps attached to this notice show two transmission alignments: (1) The applicant's current proposal, modified in response to staff's draft EIS and filed with the Commission on June 12, 2006; and (2) the staff alternative alignment being considered for the final EIS.

The February 17, 2006, draft EIS for the proposed LEAPS Project shows both the co-applicant's proposed transmission line (figure 2 of the draft EIS) and the Commission and U.S. Forest Service staff alternative alignment (figure 5 of the draft EIS). In response to public comments on the draft EIS, the co-applicants' revised their original transmission alignment and now propose to place part of the line underground (see the attached co-applicant's modified alignment). After considering the co-applicants' modified proposal, as well as the comments filed on the draft EIS, Commission and U.S. Forest Service staff are proposing to revise their draft EIS alternative transmission alignment and consider a revised alignment in the final EIS. The staff alternative alignment also includes an underground segment along South Main Divide Road as shown by the blue dotted line on the staff alternative alignment and the same underground segment from the transmission line to the powerhouse as shown by the red dotted line on the co-applicants' modified transmission alignment. The final EIS will include a response to the comments received on the draft EIS and those on this notice and will be used by the Commission in making a decision on the proposal.

Please provide any comments in response to this public notice within 30 days of the date of this notice. All documents (original and eight copies) should be filed with: Magalie R. Salas, Secretary, Federal Energy Regulatory Commission, 888 First Street, NE., Washington, DC 20426, and should have the docket number P-11858-002 in the reference heading. Comments may be filed electronically via the Internet in lieu of paper. The Commission strongly encourages electronic filings. See 18 CFR 385.2001(a)(1)(iii) and the instructions on the Commission's Web site at http://www.ferc.gov under the eLibrary link.

The licensing schedule for the project will be revised as follows:

Milestone | Tentative date
Notice of the availability of the final EIS | December 2006.
Ready for Commission's decision on the application | May 2007.

For further information, contact Jim Fargo at (202) 502-6095, james.fargo@ferc.gov.

Magalie R. Salas,
Secretary.

[FR Doc. E6-16764 Filed 10-10-06; 8:45 am]

BILLING CODE 6717-01-P